Proclamation 10640 of September 29, 2023

National Youth Substance Use Prevention Month, 2023

By the President of the United States of America

A Proclamation

During National Youth Substance Use Prevention Month, we rededicate ourselves to building a better future for America's children. No one should have to struggle with substance use alone. Every young person deserves to live a full and healthy life and have every opportunity to reach their highest potential.

Last year, our Nation lost nearly 111,000 Americans to fatal overdoses—1,000 of those lost to overdose were children and adolescents less than 18 years old. No family should have to know the pain of losing a child to the opioid and overdose epidemic. Losing a child is like losing a piece of your soul. We owe it to all those who are struggling with substance use or who have lost a loved one to overdose to finally put an end to this crisis.

That is why beating the opioid epidemic is a key pillar of my Unity Agenda. It is one of the most pressing issues facing our Nation that we must all tackle together. My Administration has invested over $169 billion in total for drug control policies and programs, including programs to expand evidence-based prevention programs for our youth. In schools, we are working to hire and train more mental health counselors, social workers, and other health professionals supporting students. We are providing educators and school-based medical professionals with resources to prevent substance use and fatal overdoses. And we are making it easier for schools to bill Medicaid to deliver health services, including mental health and substance use care.

Beyond the classroom, my Administration is supporting Drug-Free Communities coalitions in all 50 States so that local communities can acquire the tools and resources they need to prevent youth substance use. But prevention also means increasing awareness about the dangers of illicit fentanyl, which fuels the vast majority of overdoses in youth. So, my Administration launched a social media campaign to educate youth on the dangers of this deadly drug and the lifesaving effects of opioid-reversal medications like Naloxone.

To support Americans of all ages who need access to substance use disorder treatment, my Administration has announced new actions that would improve and strengthen coverage for mental health and substance use and ensure that more than 150 million Americans with private health insurance can better access substance use treatment under their insurance plan. My Administration proposed a rule this summer that reinforces the fundamental goal of the 2008 Mental Health Parity and Addiction Equity Act, ensuring families have the same access to mental health and substance use benefits as they do to physical health benefits. The rule proposes making it easier to get in-network mental health care and eliminating administrative barriers to access that keep people from getting the care they need, when they need it.

Over the past 2 years, we have seen immense progress, but there is still work to do. That means we are investing in what works—prevention, treatment, and recovery support. My Fiscal Year 2024 budget called for $3.5 billion for prevention programming for youth—an increase of more than $800 million from last year—so we can keep America's children safe from the harms of substance use and fentanyl poisoning.

Today's young people represent the most gifted, talented, and tolerant generation in American history. It is our national responsibility to protect them. During National Youth Substance Use Prevention Month, we recommit to providing families, educators, and communities with access to lifesaving resources. Together, we will ensure that young people have the tools they need to thrive. Our children deserve nothing less.

NOW, THEREFORE, I, JOSEPH R. BIDEN JR., President of the United States of America, by virtue of the authority vested in me by the Constitution and the laws of the United States, do hereby proclaim October 2023 as National Youth Substance Use Prevention Month. Let us all take action to implement practice- and evidence-based prevention strategies and improve the health of our Nation.

IN WITNESS WHEREOF, I have hereunto set my hand this twenty-ninth day of September, in the year of our Lord two thousand twenty-three, and of the Independence of the United States of America the two hundred and forty-eighth.

[FR Doc. 2023-22241

Filed 10-3-23; 8:45 am]

Billing code 3395-F4-P